SECURITIES AND EXCHANGE COMMISSION

Sunshine Act Meeting; Cancellation

FEDERAL REGISTER CITATION OF PREVIOUS ANNOUNCEMENT: 86 FR 55052, October 5, 2021.

PREVIOUSLY ANNOUNCED TIME AND DATE OF THE MEETING: Thursday October 7, 2021 at 2:00 p.m.

CHANGES IN THE MEETING: The Closed Meeting scheduled for Thursday, October 7, 2021 at 2:00 p.m., has been cancelled.

CONTACT PERSON FOR MORE INFORMATION: For further information; please contact Vanessa A. Countryman from the Office of the Secretary at (202) 551-5400.

Authority: 5 U.S.C. 552b.

Dated: October 6, 2021.
Vanessa A. Countryman,
Secretary.

[FR Doc. 2021-22140 Filed 10-6-21; 2:00 pm]

BILLING CODE 8011-01-P